DEPARTMENT OF THE INTERIOR

Bureau of Indian Affairs

[189A2100DD/AAKC001030/A0A501010.999900 253G]

Indian Gaming; Approval of an Amendment to a Tribal-State Class III Gaming Compact in the State of Oregon

AGENCY: Bureau of Indian Affairs, Interior.

ACTION: Notice.

SUMMARY: The Confederated Tribes of the Grand Ronde Community of Oregon negotiated the Amendment to the Amended and Restated Tribal-State Compact for Regulation of Class III Gaming between the Confederated Tribes of the Grand Ronde Community of Oregon and the State of Oregon governing Class III gaming; this notice announces approval of the amended Compact.

DATES: This compact takes effect on December 13, 2017.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Amendment to the Amended and Restated Tribal-State Compact for Regulation of Class III Gaming between the Confederated Tribes of the Grand Ronde Community of Oregon and the State of Oregon amends the previous compact, revises parts of the definition section, clarifies procedures for offering new types of video lottery terminals, and moves certain language regarding cooperation between Tribal and State law enforcement to another section of the Compact. The Amendment to the Amended and Restated Tribal-State Compact for Regulation of Class III Gaming between the Confederated Tribes of the Grand Ronde Community of Oregon and the State of Oregon is approved. See 25 U.S.C. 2710(d)(8)(A).

Dated: November 9, 2017.
John Tahsuda,
Acting Assistant Secretary—Indian Affairs.

[FR Doc. 2017-26816 Filed 12-12-17; 8:45 am]

BILLING CODE 4337-15-P